DEPARTMENT OF THE INTERIOR

Bureau of Land Management

[LLNVC0100000.L91310000.EJ0000.LXSIGEOT0000; MO4500008734; NVN 087795; 09-08807; TAS: 14X5575]

Notice of Intent To Prepare an Environmental Impact Statement for the Salt Wells Energy Projects, Churchill County, NE

AGENCY: Bureau of Land Management, Interior.

ACTION: Notice of Intent.

SUMMARY: The Bureau of Land Management (BLM) Stillwater Field Office, Carson City, Nevada, intends to prepare an Environmental Impact Statement (EIS) for the Salt Wells Energy Projects proposed by Sierra Pacific Power Company (Sierra), Ormat Technologies, Inc. (Ormat), and Vulcan Power Company (Vulcan) that are located in Churchill County, Nevada. Three separate projects are proposed that could result in seven 30-60 megawatt (MW) geothermal power plants with 47 associated wells, pipelines and other facilities near Fallon, Nevada, and a 22-mile, fifty-foot-wide Right-of-Way (ROW) for a new transmission line with substations to support the existing and new Fallon geothermal power plants. The study area encompassed by the three projects together covers approximately 537 total acres. This notice announces the beginning of the scoping process and solicits input on the identification of issues.

DATES: The public scoping period will close November 10, 2009. Any public meetings associated with the public scoping will be announced through the local news media and the BLM Web site: www.blm.gov/nv/st/en/fo/carson_city_field.html at least 15 days prior to each event. Additional formal opportunities for public participation in the EIS process will be provided through comment upon publication of the draft document.

ADDRESSES: Written comments may be submitted by any of the following methods:

• Mail: BLM Stillwater Field Office, Attn: Salt Wells Energy Projects, 5665 Morgan Mill Road, Carson City, NV 89701.

• Fax: (775) 885-6147.

• E-mail: saltwells_eis@blm.gov.

Documents pertinent to this proposal may be examined at the Carson City District Office, 5665 Morgan Mill Road, Carson City, NV.

FOR FURTHER INFORMATION CONTACT: Desna Young (775) 885-6078; or e-mail saltwells_eis@blm.gov.

SUPPLEMENTARY INFORMATION: The BLM Stillwater Field Office received separate proposed geothermal utilization plans and applications for facilities construction permits from Ormat and Vulcan, and an electric transmission right-of-way (ROW) application from Sierra, for proposed energy projects covering a combined area of approximately 537 acres in the Salt Wells area about 15 miles east of Fallon, Nevada. Vulcan proposes the development of up to six geothermal power plants and facilities. Ormat proposes the development of one geothermal power plant and associated facilities. Sierra proposes 22 miles of above-ground electrical transmission lines, electrical substations, and switching facilities. The BLM determined that because of similar timing, geographic area, and type of action, the BLM will analyze the three proposals in one EIS. The BLM will issue a separate record of decision at the end of the process for each proposed project. The BLM will use information from this scoping process with the utilization plans and ROW proposals to facilitate public involvement and to identify the alternatives to be studied. All lands within the project area are already under lease. The proposed facilities would be sited on a combination of private property and public land managed by the BLM and the U.S. Bureau of Reclamation (BOR). Several proposed well sites are located on Federal geothermal leases in the Carson Lake and Pasture area, currently open to leasing and managed by the BOR, although these lands have been proposed to be transferred to the Nevada State Department of Wildlife. These activities are consistent with the applicable 2001 Carson City Consolidated Resource Management Plan as amended by the 2008 Record of Decision and Resource Management Plan Amendments for Geothermal Resource Leasing in the Western United States. The Fallon Naval Air Station is adjacent to the leased areas in Salt Wells. The Navy has concerns both related to its own geothermal resource program and also related to preserving its airspace for training, and community encroachment issues. The Ormat project proposal includes the construction and operation of a 40 MW binary air-cooled geothermal power plant, 20 geothermal production and injections wells, pipelines, a substation, connection lines to the proposed Sierra transmission line, and access roads on approximately 90 acres of land. BLM has already completed a July 2008 Environmental Assessment in the Ormat Carson Lake Geothermal Exploration Project EA (EA-NV-030-07-006) and has approved 11 of the wells estimated to be necessary for Ormat's project. The Vulcan project proposal is to construct up to six 30-60 MW binary or double-flash geothermal power plants and associated facilities on approximately 160 acres of land, which could require an estimated 27 geothermal production and injection wells. Each site includes production and injection wells, pipelines, a substation, connection lines to the proposed Sierra transmission line, and access roads. Twenty of these wells have already been approved via two Environmental Assessments for ten wells each in the Salt Wells Geothermal Drilling EA, EA-NV-030-07-05 of February 2007, and in the Salt Wells Geothermal Drilling Program EA, DOI-BLM-NV-C010-2009-0006-EA of April 2009. The Sierra fifty-foot-wide ROW proposal covers approximately 287 acres and includes construction of a new substation, 22 miles of single-circuit 230 kV transmission line, four 230 kV switching stations, and two 60 kV transmission lines connecting the proposed new substation to the existing Fallon substation.

The EIS will analyze the direct, indirect, and cumulative impacts of the three proposed projects, alternatives, and a no action alternative. The EIS will also identify specific mitigation. The EIS will address issues brought forth through scoping and will be evaluated by an interdisciplinary team of specialists. This EIS is also intended to cover the impacts of operation of the plants and facilities, and thus should be able to support issuance of the site license required under 43 CFR subpart 3273 as well as remaining drilling approvals under 43 CFR subpart 3261, and the utilization plans and facility construction permits under 43 CFR subpart 3272. Key issues likely to be considered in analyzing each proposal and alternatives include: Water resources (including surface and ground water quality, floodplains, wetlands and riparian areas); geology and minerals; air quality; soils; vegetation; wildlife and wildlife habitat (especially related to migratory shorebirds utilizing Carson Lake to the west of the project area); special-status species; range resources; land use and access; recreation; aesthetics (noise and visual; especially in areas of high cultural sensitivity such as the Grimes Point Archeological Site to the north and the Pony Express Trail to the south of the project area); social and economic values; cultural resources; Native American religious concerns (consultation with the Fallon Paiute-Shoshone Tribe has been ongoing to avoid cultural sites that have been identified by the tribe); hazardous materials; and noxious weeds. Native American tribal consultations will be conducted in accordance with policy. Evaluation of cumulative impacts will take into consideration the recently-constructed Enel North America geothermal power plant adjacent to the project area to the south.

Federal, state, and local agencies and other entities that may be affected by the decisions to be made on the proposed projects are invited to participate in the scoping process and, if eligible, may request, or be requested by the BLM, to participate as a cooperating agency. Written comments may be provided to the BLM at public scoping meetings or may be submitted to the BLM using one of the methods listed in the ADDRESSES section. Before including your address, phone number, e-mail address, or other personal identifying information in your comment, you should be aware that your entire comment—including your personal identifying information—may be made publicly available at any time. While you can ask us in your comment to withhold your personal identifying information from public review, we cannot guarantee that we will be able to do so.

(Authority: 43 CFR 3200 and 43 CFR 2800).

Teresa J. Knutson,
Manager, Stillwater Field Office, BLM Carson City District.

[FR Doc. E9-21925 Filed 9-10-09; 8:45 am]

BILLING CODE 4310-HC-P